DEPARTMENT OF THE INTERIOR

National Park Service

[NPS-WASO-NRNHL-19228; PPWOCRADI0, PCU00RP14.R50000]

National Register of Historic Places; Notification of Pending Nominations and Related Actions

Nominations for the following properties being considered for listing or related actions in the National Register were received by the National Park Service before August 29, 2015. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 2, 2015. Before including your address, phone number, email address, or other personal identifying information in your comment, you should be aware that your entire comment—including your personal identifying information—may be made publicly available at any time. While you can ask us in your comment to withhold your personal identifying information from public review, we cannot guarantee that we will be able to do so.

Dated: September 3, 2015.
J. Paul Loether,
Chief, National Register of Historic Places/National Historic Landmarks Program.

CALIFORNIA

Kern County

National Farm Workers Association Headquarters, (Latinos in 20th Century California MPS) 102 Albany St., Delano, 15000715

Solano County

LCS-102 (landing craft support), 7th & Nimitz Sts., Vallejo, 15000716

DISTRICT OF COLUMBIA

District of Columbia

Emory United Methodist Church, 6100 Georgia Ave. NW.,Washington, 15000717

Grant Circle Historic District, 4-33 Grant Cir., NW., Washington, 15000718

Heurich-Parks House, 3400 Massachusetts Ave. NW., Washington, 15000719

IOWA

Clinton County

Washington Junior High School and Jefferson Grade School, 751 2nd Ave., S., Clinton, 15000720

Davis County

Bloomfield Public Library, 107 N. Columbia, Bloomfield, 15000721

Dubuque County

Old Main Street Historic District (Boundary Increase and Additional Documentation), (Dubuque, Iowa MPS) Main St. between W. 1st & 4th Sts., Dubuque, 15000722

Seminary Hill Residential Historic District, (Dubuque, Iowa MPS) Clarke Dr., N. Main & Madison Sts., Madison Park, Dubuque, 15000723

Upper Iowa Street Historic District, (Dubuque, Iowa MPS) Iowa St. between W. 11th & 12th Sts., Dubuque, 15000724

Washington Residential Historic District, (Dubuque, Iowa MPS) 1100-1900 blks. White, Jackson & Washington Sts. Dubuque, 15000725

Franklin County

St. John's Danish Evangelical Lutheran Church Historic District, 1207 Indigo Ave., Hampton, 15000726

Jefferson County

Gobble and Heer—Spurgeons Building, 51 E. Broadway, Fairfield, 15000727

Linn County

Grant Vocational High School, 346 2nd Ave., SW., Cedar Rapids, 15000728

Wapello County

St. Joseph Hospital Historic District, 312 E. Alta Vista & 317 Vanness Aves., Ottumwa, 15000729

Webster County

Fort Dodge Junior High School, 416 S. 10th St., Fort Dodge, 15000730

Fort Dodge Senior High School, 1015 5th Ave. N., Fort Dodge, 15000731

MASSACHUSETTS

Middlesex County

North Town Hall, 31 Princeton St., Chelmsford, 15000732

NEW JERSEY

Essex County

Banister, James A., Company Shoe Factory, 370-386 Orange St., Newark, 15000733

PENNSYLVANIA

Philadelphia County

Bethel Burying Ground, 405-425 Queen St., Philadelphia, 15000734

Friends Housing Cooperative, Bounded by Fairmount Ave., 8th, Franklin & Brown Sts., Philadelphia, 15000735

SOUTH CAROLINA

Jasper County

Sinclair Service Station, 10782 Jacob Smart Blvd., Ridgeland, 15000736

VERMONT

Franklin County

Community Baptist Church and Parsonage, (Religious Buildings, Sites and Structures in Vermont MPS) 2 & 10 Mountain Rd., Montgomery, 15000737

A request for removal has been received for the following resource:

INDIANA

Miami County

Paw Paw Creek Bridge No. 52, Paw Paw Pike, Chili, 83000008

[FR Doc. 2015-23326 Filed 9-16-15; 8:45 am]

BILLING CODE 4312-51P